DEPARTMENT OF ENERGY

Federal Energy Regulatory Commission

Combined Notice of Filings

Take notice that the Commission has received the following Natural Gas Pipeline Rate and Refund Report filings:

Docket Numbers: RP18-185-000.

Applicants: Algonquin Gas Transmission, LLC.

Description: Algonquin Gas Transmission, LLC submits tariff filing per 154.204: Negotiated Rates—ConEd to Next Utility—795426 & 795428 to be effective 11/28/2017.

Filed Date: 11/28/17.

Accession Number: 20171128-5015.

Comments Due: 5 p.m. ET 12/11/17.

Docket Numbers: RP18-186-000.

Applicants: Southern Star Central Gas Pipeline, Inc.

Description: Southern Star Central Gas Pipeline, Inc. submits tariff filing per 154.203: Annual Cash-Out Activity Report 2017 to be effective.

Filed Date: 11/28/17.

Accession Number: 20171128-5032.

Comments Due: 5 p.m. ET 12/11/17.

Docket Numbers: RP18-187-000.

Applicants: Gas Transmission Northwest LLC.

Description: Annual Fuel Charge Adjustment of Gas Transmission Northwest LLC under RP18-187.

Filed Date: 11/28/17.

Accession Number: 20171128-5045.

Comments Due: 5 p.m. ET 12/11/17.

Docket Numbers: RP18-188-000.

Applicants: Colorado Interstate Gas Company, L.L.C.

Description: Colorado Interstate Gas Company, L.L.C. submits tariff filing per 154.403(d)(2): Quarterly LUF True Up Filing to be effective 1/1/2018.

Filed Date: 11/28/17.

Accession Number: 20171128-5068.

Comments Due: 5 p.m. ET 12/11/17.

Docket Numbers: RP18-189-000.

Applicants: El Paso Natural Gas Company, L.L.C.

Description: El Paso Natural Gas Company, L.L.C. submits tariff filing per 154.601: Negotiated Rate Agreement Update (SoCal Dec 17) to be effective 12/1/2017.

Filed Date: 11/28/17.

Accession Number: 20171128-5070.

Comments Due: 5 p.m. ET 12/11/17.

Docket Numbers: RP18-190-000.

Applicants: Sierrita Gas Pipeline LLC.

Description: Operational Purchases and Sales Report of Sierrita Gas Pipeline LLC under RP18-190.

Filed Date: 11/28/17.

Accession Number: 20171128-5088.

Comments Due: 5 p.m. ET 12/11/17.

Docket Numbers: RP18-191-000.

Applicants: National Fuel Gas Supply Corporation.

Description: National Fuel Gas Supply Corporation submits tariff filing per 154.203: TSCA—Informational Filing (11/28/17) to be effective.

Filed Date: 11/28/17.

Accession Number: 20171128-5090.

Comments Due: 5 p.m. ET 12/11/17.

Docket Numbers: RP18-192-000.

Applicants: UGI Mt. Bethel Pipeline Company, LLC.

Description: Operational Purchases and Sales Report of UGI Mt. Bethel Pipeline Company, LLC under RP18-192.

Filed Date: 11/28/17.

Accession Number: 20171128-5093.

Comments Due: 5 p.m. ET 12/11/17.

Docket Numbers: RP18-193-000.

Applicants: UGI Sunbury, LLC.

Description: Operational Purchases and Sales Report of UGI Sunbury, LLC under RP18-193.

Filed Date: 11/28/17.

Accession Number: 20171128-5100.

Comments Due: 5 p.m. ET 12/11/17.

Docket Numbers: RP18-194-000.

Applicants: Northwest Pipeline LLC.

Description: Northwest Pipeline LLC submits tariff filing per 154.204: 2017 Miscellaneous Filing to be effective 1/1/2018.

Filed Date: 11/28/17.

Accession Number: 20171128-5134.

Comments Due: 5 p.m. ET 12/11/17.

Docket Numbers: RP18-195-000.

Applicants: Northwest Pipeline LLC.

Description: Northwest Pipeline LLC submits tariff filing per 154.204: Interconnect Facilities Credit Provisions Filing to be effective 1/1/2018.

Filed Date: 11/28/17.

Accession Number: 20171128-5140.

Comments Due: 5 p.m. ET 12/11/17.

Docket Numbers: CP18-19-000.

Applicants: Transcontinental Gas Pipe Line Company, LLC.

Description: Authorization to Abandon Service under CP18-19.

Filed Date: 11/15/17.

Accession Number: 20171115-5093.

Comments Due: 5 p.m. ET 12/6/17.

Docket Number: PR17-64-001.

Applicants: Boardwalk Texas Intrastate, LLC.

Description: Tariff filing per 284.123(b), (e)+(g): Revised Petition for Rate Approval to be effective 10/1/2017.

Filed Date: 11/27/17.

Accession Number: 201711275012.

Comments Due: 5 p.m. ET 12/18/17.

284.123(g) Protests Due: 5 p.m. ET 12/18/17.

The filings are accessible in the Commission's eLibrary system by clicking on the links or querying the docket number.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 29, 2017.
Nathaniel J. Davis, Sr.,
Deputy Secretary.

[FR Doc. 2017-26133 Filed 12-4-17; 8:45 am]

BILLING CODE 6717-01-P